DEPARTMENT OF DEFENSE

Department of the Air Force

Request for Public Review and Comment of Changes to the Navstar Global Positioning System (GPS) Space Segment/Navigation User Segment Interface Control Document (ICD) for the L2 Civil (L2 C) Signal

AGENCY: Department of the Air Force, DoD.

ACTION: Request for review and comment of changes to ICD-GPS-200C.

SUMMARY: This notice informs the public that the Global Positioning System (GPS)Joint Program Office (JPO) proposes to revise ICD-GPS-200, Navstar GPS Space Segment/Navigation User Interfaces, to include the description of the proposed L2 C signal, to be transmitted at the L2 frequency (1227.6 MHz). These proposed changes are described in a Proposed Interface Revision Notice (PIRN): PIRN-200C-007. The PIRN can be reviewed at the following Web site: http://gps.losangeles.af.mil. Select “Configuration Management” and then “Public Data for Review.” Hyperlinks are provided to “PIRN-200C-007 (PDF)” and to review instructions. Reviewers should save the PIRN to a local memory location prior to opening and performing the review. All comments and their resolutions will be posted to the Web site.

ADDRESSES: Submit comments to Mr. Soon K. Yi via E-mail at syi@arinc.com, by fax at 310-322-4474, or by mail to ARINC Inc., Attn: Soon K. Yi, 2250 E. Imperial Highway, Suite 450, El Segundo, CA 90245-3509. A comment matrix is provided at the Web site and is the preferred method of comment submittal.

DATES: The suspense date for comment submittal is January 2, 2002.

FOR FURTHER INFORMATION CONTACT: 1st Lt Reginald Victoria, ICD-GPS-200 Point of Contact, 310-363-6329, GPS JPO System Engineering Division.

SUPPLEMENTARY INFORMATION: The civilian and military communities use the Global Positioning System, which employs a constellation of 24 satellites to provide continuously transmitted signals to enable appropriately configured GPS user equipment to produce accurate position, navigation, and time information.

Janet A. Long,
Air Force Federal Register Liaison Officer.

[FR Doc. 01-30635 Filed 12-11-01; 8:45 am]

BILLING CODE 5001-05-P